DEPARTMENT OF LABOR

Employment and Training Administration

[TA-W-50,696]

Lustar Dyeing and Finishing, Ashville, NC; Notice of Termination of Investigation

Pursuant to section 221 of the Trade Act of 1974, an investigation was initiated on January 28, 2003 in response to a worker petition filed by a company official on behalf of workers at Lustar Dyeing and Finishing, Ashville, North Carolina.

The petitioner has requested that the petition be withdrawn. Consequently, the investigation has been terminated.

Signed in Washington, DC this 13th day of February 2003.
Richard Church,
Certifying Officer, Division of Trade Adjustment Assistance.

[FR Doc. 03-5548 Filed 3-7-03; 8:45 am]

BILLING CODE 4510-30-P